DEPARTMENT OF ENERGY

Federal Energy Regulatory Commission

[Project No. 2607-015]

Spencer Mountain Hydropower, LLC; Notice of Intent To File License Application, Filing of Pre-Application Document, and Approving Use of the Traditional Licensing Process

a. Type of Filing: Notice of Intent to File License Application and Request to Use the Traditional Licensing Process.

b. Project No.: 2607-015.

c. Date Filed: June 30, 2020.

d. Submitted By: Spencer Mountain Hydropower, LLC.

e. Name of Project: Spencer Mountain Hydropower Project.

f. Location: On the South Fork of the Catawba River, in the Town of Spencer Mountain, in Gaston County, North Carolina. The project does not occupy federal lands.

g. Filed Pursuant to: 18 CFR 5.3 of the Commission's Regulations.

h. Potential Applicant Contact: Kevin Edwards, 916 Comer Road, Stoneville, NC 27048; (336) 589-6138; email—smhydro@pht1.com.

i. FERC Contact: Michael Spencer at (202) 502-6093, or email at michael.spencer@ferc.gov.

j. Spencer Mountain Hydropower, LLC filed its request to use the Traditional Licensing Process, and provided public notice of its request, on June 30, 2020. In a letter dated August 12, 2020, the Director of the Division of Hydropower Licensing approved Spencer Mountain Hydropower, LLC's request to use the Traditional Licensing Process.

k. With this notice, we are initiating informal consultation with the U.S. Fish and Wildlife Service and/or NOAA Fisheries under section 7 of the Endangered Species Act and the joint agency regulations thereunder at 50 CFR, Part 402. We are also initiating consultation with the North Carolina State Historic Preservation Officer, as required by section 106 of the National Historic Preservation Act, and the implementing regulations of the Advisory Council on Historic Preservation at 36 CFR 800.2.

l. With this notice, we are designating Spencer Mountain Hydropower, LLC as the Commission's non-federal representative for carrying out informal consultation pursuant to section 7 of the Endangered Species Act and consultation pursuant to section 106 of the National Historic Preservation Act.

m. Spencer Mountain Hydropower, LLC filed a Pre-Application Document (PAD; including a proposed process plan and schedule) with the Commission, pursuant to 18 CFR 5.6 of the Commission's regulations.

n. A copy of the PAD may be viewed on the Commission's website (http://www.ferc.gov), using the eLibrary link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCONlineSupport@ferc.gov, (866) 208 3676 (toll free), or (202) 502-8659 (TTY).

o. The licensee states its unequivocal intent to submit an application for a new license for Project No. 2607-015. Pursuant to 18 CFR 16.8, 16.9, and 16.10 each application for a new license and any competing license applications must be filed with the Commission at least 24 months prior to the expiration of the existing license. All applications for license for this project must be filed by June 30, 2023.

p. Register online at http://www.ferc.gov/docs-filing/esubscription.asp to be notified via email of new filing and issuances related to this or other pending projects. For assistance, contact FERC Online Support.

Dated: August 12, 2020.
Kimberly D. Bose,
Secretary.

[FR Doc. 2020-17995 Filed 8-17-20; 8:45 am]

BILLING CODE 6717-01-P